NATIONAL CREDIT UNION ADMINISTRATION

Agency Information Collection Activities: Proposed Collections; Comment Request; Capital Planning and Stress Testing

AGENCY: National Credit Union Administration (NCUA).

ACTION: Notice and request for comment.

SUMMARY: The National Credit Union Administration (NCUA), as part of a continuing effort to reduce paperwork and respondent burden, invites the general public and other Federal agencies to comment on the following extension of currently approved collection, as required by the Paperwork Reduction Act of 1995.

DATES: Written comments should be received on or before March 19, 2018 to be assured consideration.

ADDRESSES: Interested persons are invited to submit written comments on the information collection to Dawn Wolfgang, National Credit Union Administration, 1775 Duke Street, Suite 5080, Alexandria, Virginia 22314; Fax No. 703-519-8579; or Email at PRAComments@NCUA.gov.

FOR FURTHER INFORMATION CONTACT: Requests for additional information should be directed to the address above or Dawn Wolfgang at (703) 548-2279.

SUPPLEMENTARY INFORMATION:

OMB Number: 3133-0199.

Title: Capital Planning and Stress Testing, 12 CFR part 702, subpart E.

Abstract: To protect the National Credit Union Share Insurance Fund (NCUSIF) and the credit union system, the largest Federally Insured Credit Unions (FICUs) must have systems and processes to monitor and maintain their capital adequacy. This rule requires FICUs with assets of $10 billion or more (covered credit unions) to develop, maintain, and submit a capital plan annually. NCUA took into account the risk to the NCUSIF of the largest FICUs as it considered the need for capital plans at these institutions. The size of these institutions relative to the NCUSIF makes capital planning essential.

Type of Review: Extension of a currently approved collection.

Affected Public: Private Sector: Not-for-profit institutions.

Estimated Number of Respondents: 6.

Estimated Annual Frequency: 1.2.

Estimated Annual Number of Responses: 7.

Estimated Burden Hours per Response: 321.

Estimated Total Annual Burden Hours: 2,250.

Reason for Change: NCUA was granted an emergency clearance for the information collection requirements under this notice to bring it into compliance under the PRA; which is set to expire April 2018. The information collection requirements prescribed under subpart E of part 702 were published as final on April 30, 2014, at 79 FR 24311 (effective May 20, 2014). NCUA sought initial public comments via the proposed rule (NPRM November 1, 2013, at 78 FR 65583); but no PRA submission was made to OMB. NCUA is soliciting comments on the OMB clearance obtained under the emergency approval.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on January 10, 2018.
Dated: January 10, 2018.
Dawn D. Wolfgang,
NCUA PRA Clearance Officer.

[FR Doc. 2018-00559 Filed 1-12-18; 8:45 am]

BILLING CODE 7535-01-P